CONSUMER PRODUCT SAFETY COMMISSION

[Docket No. CPSC-2021-0018]

Agency Information Collection Activities; Submission for OMB Review; Comment Request; Toy Warning Labels Online Survey

AGENCY: Consumer Product Safety Commission.

ACTION: Notice.

SUMMARY: As required under the Paperwork Reduction Act of 1995 (PRA), the Consumer Product Safety Commission (CPSC or Commission) announces that CPSC has submitted to the Office of Management and Budget (OMB) a new proposed collection of information for a survey to assess how toy safety labels on e-commerce websites affect caregivers' purchasing behaviors. On June 24, 2021, the CPSC published a notice in the Federal Register announcing the agency's intent to seek approval of this collection of information. After reviewing and considering the comments, the Commission announces that it has submitted to the OMB a request for approval of this collection of information. A copy of the proposed survey, “Revised Supporting Statement Toy Warning Survey” is available at: www.regulations.gov under Docket No. CPSC-2021-0018, Supporting and Related Material.

DATES: Submit written or electronic comments on the collection of information by December 8, 2021.

ADDRESSES: Send written comments and recommendations for the proposed information collection within 30 days of publication of this notice to: www.reginfo.gov/public/do/PRAMain. Find this particular information collection by selecting, “Currently under 30-day Review—Open for Public Comments,” or by using the search function. In addition, written comments that are sent to OMB also should be submitted electronically at: http://www.regulations.gov, under Docket No. CPSC-2021-0018.

FOR FURTHER INFORMATION CONTACT: Cynthia Gillham, Consumer Product Safety Commission, 4330 East-West Highway, Bethesda, MD 20814; (301) 504-7991, or by email to: cgillham@cpsc.gov.

SUPPLEMENTARY INFORMATION: Under the Paperwork Reduction Act of 1995 (PRA; 44 U.S.C. 3501-3520), federal agencies must obtain approval from OMB for each collection of information they conduct or sponsor. “Collection of information” is defined in 44 U.S.C. 3502(3) and 5 CFR 1320.3(c) and includes agency data-collection studies and surveys. Agencies must provide notice of the proposed collection of information in the Federal Register, and provide a 60-day comment period, before submitting the collection to OMB for approval. 44 U.S.C. 3506(c)(2)(A). Agencies then must evaluate any public comments and publish another notice in the Federal Register. Id. 3507(a)(1).

In accordance with these procedures, on June 24, 2021, CPSC published a notice in the Federal Register announcing the agency's intent to seek approval of a new collection of information on a survey on the Toy Warning Labels Online Survey. 86 FR 33239. Section B. Comments, below, summarizes and addresses the comments CPSC received.

A. Toy Warning Labels Online Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products, and develop product safety test methods and testing devices.

In 2020, CPSC conducted an Online Shopping Focus Group with 40 participants, which was approved under OMB Control No. 3041-0136. In-depth interviews were conducted with primary caregivers (parent or guardian) of young children ages 3 to 6 years old, to gather feedback on the caregivers' understanding, perceptions, and attitudes toward online toy safety messaging. Caregiver responses in the focus group study indicated that typically, they do not look for warning labels on web pages when shopping for toys on e-commerce websites. Some of the reasons for their failure to look for the warning labels may be the lack of prominent visibility of the safety information on consumer web pages, or because the warning labels were not particularly noticeable, or easy to find. These findings suggest that improving the location or design of warning labels may help caregivers become more aware and informed about the potential safety risks associated with products intended for young children.

CPSC seeks to learn more about caregivers' understanding and awareness of warning labels for toys intended for children 2 to 6 years old. This proposed survey will augment the work conducted in the focus group, through an online survey. The proposed survey will be directed to caregivers who have purchased a toy from an e-commerce website for a 2- to 6-year-old child and assess how these caregivers interpret and adhere to safety warnings when purchasing toys for their child. CPSC will use this information to develop strategies and best-practice approaches for recommending where and how safety warnings for children's products should be displayed to get caregivers' attention when shopping online for children's toys or products.

CPSC has contracted with Fors Marsh Group, LLC, to develop and execute this project for CPSC. Information obtained through this survey is not intended to be considered nationally representative. CPSC intends to use findings from this survey, with findings from other research and activities, to assist with providing recommendations for refining and enhancing warning labels in the future, to convey critical information effectively about product safety warnings for online sellers.

B. Comments

CPSC received one comment in response to the June 24, 2021 notice. The commenter stated support for the research. However, the commenter raised a concern that the small sample size of 250 will not provide enough information and stated that an increased sample size, such as 500, would provide more insights. Commenter also suggested making efforts to get a diverse range of shoppers in the sample, in terms of income, race, and other demographic information, as well as in terms of familiarity with shopping and purchasing online. The commenter expressed the belief that first-time shoppers for an online children's product will have different responses from regular online shoppers. Furthermore, the commenter recommends that CPSC, while conducting the survey, seek information on different types of products that parents shop for online.

CPSC considered the comment and modified the survey to increase the sample size of the survey from 250 to 750 participants. The survey will screen participants to ensure the selection of a sample that varies on income, education, caregiver age, age of their child(ren), and other parameters. The panel provider will also monitor respondents to ensure that underserved populations are represented in the sample and that insights are collected from a diverse population. Although the survey instrument will differentiate results between first-time and regular online shoppers, the purpose of the survey is to gather feedback on the caregivers' understanding, perceptions, and attitudes toward online toy safety messaging information, rather than on the different types of products parents shop for online. However, the Commission may consider additional research to collect this information in the future.

C. Burden Hours

We revised the estimate of the number of respondents to the survey from 250 to 750 participants. The online survey for the proposed study will take approximately 15 minutes (0.25 hours) to complete. We estimate the total annual burden hours for respondents to be 187.50 hours. The monetized hourly cost is $38.60, as defined by total compensation for all civilian workers, U.S. Bureau of Labor Statistics, Employer Costs for Employee Compensation, as of December 2020. Accordingly, we estimate the total cost burden to be $7,237.50 (187.50 hours × $38.60). The total cost to the federal government for the contract to design and conduct the proposed survey is $152,712.

Alberta E. Mills,
Secretary, Consumer Product Safety Commission.

[FR Doc. 2021-24363 Filed 11-5-21; 8:45 am]

BILLING CODE P